DEPARTMENT OF JUSTICE

Notice of Lodging of Proposed Consent Decree Under CERCLA

On September 21, 2017, the Department of Justice lodged a proposed Consent Decree with the United States District Court for the Northern District of New York in the lawsuit entitled United States v. Mazza & Sons, Inc., Civil Case No. 6:17-cv-01041-GTS-TWD.

The proposed settlement resolves the United States' claims under Section 107 of the Comprehensive Environmental Response, Compensation and Liability Act, 42 U.S.C. 9607, against Mazza & Sons, Inc., for recovery of past response costs incurred at the Frankfort Asbestos Superfund Site. The Site is located at 3720 Southside Road (Old New York State 5S), approximately one mile northwest of the Town of Frankfort, in Herkimer County, New York. Under the proposed Consent Decree, Mazza & Sons, Inc. will pay $250,000 in past response costs to resolve the United States' claims.

The publication of this notice opens a period for public comment on the Consent Decree. Comments should be addressed to the Assistant Attorney General, Environment and Natural Resources Division, and should refer to United States of America v. Mazza & Sons, Inc., Case No. 6:17-cv-01041-GTS-TWD, D.J. Ref. No. 90-11-3-10738/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.justice.gov/enrd/consent-decrees. We will provide a paper copy of the Consent Decree upon written request and payment of reproduction costs. Please mail your request for a paper copy and payment to: Consent Decree Library, U.S. DOJ—ENRD, P.O. Box 7611, Washington, DC 20044-7611.

Please enclose a check or money order for $5.75 (25 cents per page reproduction cost), payable to the United States Treasury.

Robert E. Maher, Jr.,
Assistant Section Chief, Environmental Enforcement Section, Environment and Natural Resources Division.

[FR Doc. 2017-20648 Filed 9-26-17; 8:45 am]

BILLING CODE 4410-15-P